DEPARTMENT OF STATE

[Public Notice 3880]

Culturally Significant Objects Imported for Exhibition Determinations: “European Masterpieces: Six Centuries of Paintings from the National Gallery of Victoria, Australia”

AGENCY: United States Department of State.

ACTION: Notice; Correction.

SUMMARY: On October 3, 2000, Notice was published in the Federal Register(Volume 65, Number 192) by the Department of State concerning the exhibition “European Masterpieces: Six Centuries of Paintings from the National Gallery of Victoria, Australia.” The referenced Notice is corrected as follows. I hereby determine that an additional work scheduled to be imported from abroad on or about January 21, 2002 is of cultural significance and that its temporary exhibit in the U.S. is in the national interest. In the summary after “January 6, 2002,” add the following additional venue: “and at the Birmingham Museum of Art, Birmingham, AL from on or about February 10, 2002, to on or about April 14, 2002, is in the national interest.” In addition, an object from the National Gallery of Victoria, previously on display in the Metropolitan Museum of Art in New York and included in a Notice by the Department of State published July 30, 2001 (Volume 66, Number 146), will be added to the exhibit in Birmingham.

FOR FURTHER INFORMATION CONTACT: For further information, including a list of the exhibit objects, contact Carol B. Epstein, Attorney-Adviser, Office of the Legal Adviser, U.S. Department of State, (telephone: 202/619-6981). The address is U.S. Department of State, SA-44, 301 4th Street, SW., Room 700, Washington, DC 20547-0001.

Dated: January 14, 2002.
Patricia S. Harrison,
Assistant Secretary for Educational and Cultural Affairs, United States Department of State.

[FR Doc. 02-1492 Filed 1-18-02; 8:45 am]

BILLING CODE 4710-08-P